DEPARTMENT OF STATE

[Public Notice 6781]

Announcement of a Meeting of the International Telecommunication Advisory Committee

SUMMARY: This notice announces a meeting of the International Telecommunication Advisory Committee (ITAC) to prepare for the International Telecommunication Union (ITU) World Telecommunication Development Conference.

The ITAC will meet to begin preparation of advice for the U.S. government for the ITU World Telecommunication Development Conference, which will be held in May 2010 in Hyderabad, India. There will also be reports on recent developments at the ITU Council meeting, the Internet Governance Forum, and CITEL.

The ITAC will meet from 2 to 4 p.m. on November 24, 2009 at 1120 20th Street, NW.,10th floor, Washington, DC 20036. This meeting is open to the public as seating capacity allows. The public will have an opportunity to provide comments at this meeting. Any requests for reasonable accommodation should be made at least 7 days before the meeting. All such requests will be considered, however, requests made after that date might not be possible to fulfill. Those desiring further information on this meeting may contact the ITAC Secretariat at jillsonad@state.gov or at (202) 647-2592.

Dated: October 15, 2009.
Cecily C. Holiday,
International Communications & Information Policy, U.S. Department of State.

[FR Doc. E9-25958 Filed 10-27-09; 8:45 am]

BILLING CODE 4710-07-P